DEPARTMENT OF TRANSPORTATION

Federal Aviation Administration

[Summary Notice No. PE-2005-63]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Tim Adams (202) 267-8033, Sandy Buchanan-Sumter (202) 267-7271, or John Linsenmeyer (202) 267-5174, Office of Rulemaking (ARM-1), Federal Aviation Administration, 800 Independence Avenue, SW., Washington, DC 20591. This notice is published pursuant to 14 CFR 11.85 and 11.91.

Issued in Washington, DC, on December 2, 2005.
Anthony F. Fazio,
Director, Office of Rulemaking.

Dispositions of Petitions

Docket No.: FAA-2002-12739.

Petitioner: Evergreen International Airlines, Inc.

Section of 14 CFR Affected: 14 CFR 121.583(a)(8).

Description of Relief Sought/Disposition: To allow up to three dependents of Evergreen International Airlines, Inc., employees to be added to the list of persons specified in part 121.583(a)(8) that Evergreen International Airlines, Inc., is authorized to transport without complying with the passenger-carrying aircraft requirements.

Grant, October 5, 2005, Exemption No. 8647.

Docket No.: FAA-2005-22136.

Petitioner: Federal Express Corporation.

Section of 14 CFR Affected: 14 CFR 121.344.

Description of Relief Sought/Disposition: To allow Federal Express Corporation to operate 11 ATR Model 42 and 7 ATR Model 72 airplanes with a flight data recorder that receives its groundspeed output from the aircraft distance measuring equipment rather than the global positioning system.

Grant, October 14, 2005, Exemption No. 8648.

Docket No.: FAA-2004-18967.

Petitioner: Gulfstream Aerospace Corporation.

Section of 14 CFR Affected:14 CFR 21.463(b).

Description of Relief Sought/Disposition: To allow Gulfstream Aerospace Corporation's Long Beach, Dallas, Appleton and Savannah Designated Alteration Stations to store Supplemental Type Certificate (STC) information, data, and reports instead of submitting those items to the Federal Aviation Administration within 30 days of issuing an STC.

Grant, October 14, 2005, Exemption No. 8649.

Docket No.: FAA-2005-22570.

Petitioner: The Boeing Company.

Section of 14 CFR Affected: 14 CFR 91.9(b)(1) and (2), and 91.203(a) and (b).

Description of Relief Sought/Disposition: To allow The Boeing Company to operate unmanned aerial vehicles that do not carry and display the aircraft airworthiness, certification, and registration documents required in part 91.

Grant, October 20, 2005, Exemption No. 8651.

Docket No.: FAA-2003-15643.

Petitioner: Mr. John J. Geitz.

Section of 14 CFR Affected: 14 CFR 91.109(a) and (b)(3).

Description of Relief Sought/Disposition: To allow Mr. John J. Geitz to conduct certain flight training and to provide simulated instrument flight instruction in certain Beech airplanes that are equipped with a throw-over control wheel.

Grant, October 28, 2005, Exemption No. 8652.

Docket No.: FAA-2005-22457.

Petitioner: Southwest Airlines, Inc.

Section of 14 CFR Affected: 14 CFR 121.619.

Description of Relief Sought/Disposition: To allow Southwest Airlines, Inc., its certificated dispatchers, and its pilots in command to dispatch flights to domestic airports at which, for at least 1-hour before and 1-hour after the estimated time of arrival, the appropriate weather reports or forecasts, or any combination of them, indicate the ceiling may be reduced from at least 2,000 feet to 1,000 feet above the airport elevation and visibility may be reduced from at least 3 statute miles to 1 statute mile.

Grant, October 28, 2005, Exemption No. 8654.

Docket No.: FAA-2005-21879.

Petitioner: Northwest Airlines, Inc.

Section of 14 CFR Affected: 14 CFR 121.619.

Description of Relief Sought/Disposition: To allow Northwest Airlines, Inc., its certificated dispatchers, and its pilots in command to dispatch flights to domestic airports at which, for at least 1-hour before and 1-hour after the estimated time of arrival, the appropriate weather reports or forecasts, or any combination of them, indicate the ceiling may be reduced from at least 2,000 feet to 1,000 feet above the airport elevation and visibility may be reduced from at least 3 statute miles to 1 statute mile.

Grant, October 28, 2005, Exemption No. 8655.

Docket No.: FAA-2005-22575.

Petitioner: Midwest Airlines, Inc.

Section of 14 CFR Affected: 14 CFR 121.619.

Description of Relief Sought/Disposition: To allow Midwest Airlines, Inc., its certificated dispatchers, and its pilots in command to dispatch flights to domestic airports at which, for at least 1-hour before and 1-hour after the estimated time of arrival, the appropriate weather reports or forecasts, or any combination of them, indicate the ceiling may be reduced from at least 2,000 feet to 1,000 feet above the airport elevation and visibility may be reduced from at least 3 statute miles to 1 statute mile.

Grant, October 28, 2005, Exemption No. 8656.

Docket No.: FAA-2005-22158.

Petitioner: Continental Airlines, Inc.

Section of 14 CFR Affected:

14 CFR 121.619.

Description of Relief Sought/Disposition:

To allow Continental Airlines, Inc., its certificated dispatchers, and its pilots in command to dispatch flights to domestic airports at which, for at least 1-hour before and 1-hour after the estimated time of arrival, the appropriate weather reports or forecasts, or any combination of them, indicate the ceiling may be reduced from at least 2,000 feet to 1,000 feet above the airport elevation and visibility may be reduced from at least 3 statute miles to 1 statute mile.

Grant, October 28, 2005, Exemption No. 8657.

Docket No.: FAA-2005-22336.

Petitioner: United Parcel Service Company.

Section of 14 CFR Affected: 14 CFR 121.619.

Description of Relief Sought/Disposition: To allow United Parcel Service Company, its certificated dispatchers, and its pilots in command to dispatch flights to domestic airports at which, for at least 1-hour before and 1-hour after the estimated time of arrival, the appropriate weather reports or forecasts, or any combination of them, indicate the ceiling may be reduced from at least 2,000 feet to 1,000 feet above the airport elevation and visibility may be reduced from at least 3 statute miles to 1 statute mile.

Grant, October 28, 2005, Exemption No. 8658.

Docket No.: FAA-2002-11933.

Petitioner: ExpressJet Airlines, Inc.

Section of 14 CFR Affected: 14 CFR 121.434(c)(1)(ii).

Description of Relief Sought/Disposition: To allow ExpressJet Airlines, Inc., its certificated dispatchers, and its pilots in command to dispatch flights to domestic airports at which, for at least 1-hour before and 1-hour after the estimated time of arrival, the appropriate weather reports or forecasts, or any combination of them, indicate the ceiling may be reduced from at least 2,000 feet to 1,000 feet above the airport elevation and visibility may be reduced from at least 3 statute miles to 1 statute mile.

Grant, October 7, 2005, Exemption No. 6798D.

Docket No.: FAA-2005-22172.

Petitioner: Cessna Aircraft Company.

Section of 14 CFR Affected: 14 CFR 21.231(a)(1).

Description of Relief Sought/Disposition: To allow Cessna Aircraft Company to apply for delegation option authorization for type, production, and airworthiness certification of derivative models of all Cessna transport category airplanes.

Grant, October 13, 2005, Exemption No. 3764.

Docket No.: FAA-2003-16809.

Petitioner: Kalitta Charters, LLC.

Section of 14 CFR Affected: 14 CFR 61.3(a) and (c)(1).

Description of Relief Sought/Disposition: To allow Kalitta Charters, LLC pilots to operate aircraft, on a temporary basis, without having their pilot certificates in their physical possession or readily accessible in the aircraft.

Grant, October 20, 2005, Exemption No. 8252B.

Docket No.: FAA-2001-11089.

Petitioner: The Collings Foundation.

Section of 14 CFR Affected: 14 CFR 91.315, 91.319(a), 119.5(g), and 119.21(a).

Description of Relief Sought/Disposition: To allow The Collings Foundation to operate its Boeing B-17, Consolidated B-24, North American B-25, and Grumman TBM for the purpose of carrying passengers for compensation or hire on local flights for educational purposes.

Grant, October 19, 2005, Exemption No. 6540G.

Docket No.: FAA-2001-10876.

Petitioner: Experimental Aircraft Association, Inc.

Section of 14 CFR Affected: 14 CFR 91.319(a)(2), 119.5(g), and 119.21(a).

Description of Relief Sought/Disposition: To allow Experimental Aircraft Association, Inc., to operate its Spirit of Saint Louis replica aircraft for the purpose of carrying passengers for compensation or hire on local flights for educational purposes.

Grant, October 19, 2005, Exemption No. 6541I.

[FR Doc. 05-23892 Filed 12-9-05; 8:45 am]

BILLING CODE 4910-13-P